DEPARTMENT OF AGRICULTURE

Animal and Plant Health Inspection Service

7 CFR Part 353

[Docket No. 99-100-4]

Export Certification; Canadian Solid Wood Packing Materials Exported From the United States to China

AGENCY: Animal and Plant Health Inspection Service, USDA.

ACTION: Affirmation of interim rule as final rule.

SUMMARY: We are adopting as a final rule, without change, an interim rule that amended the regulations for the certification of softwood (coniferous) packing materials used with goods exported from the United States to China. Prior to the interim rule, the packing materials had to be certified as having been heat treated in the United States. The interim rule allowed certification of packing materials that were heat treated in Canada if that treatment was certified by the Canadian Food Inspection Agency to meet requirements established by the Government of the People's Republic of China. The interim rule was necessary to facilitate the exportation of the large volume of U.S. goods shipped to China using Canadian-origin coniferous solid wood packing materials.

EFFECTIVE DATE: The interim rule became effective on July 11, 2001.

FOR FURTHER INFORMATION CONTACT: Mr. Frederick Thomas, Export Specialist, Phytosanitary Issues Management, PPQ, APHIS, 4700 River Road Unit 140, Riverdale, MD 20737-1236; (301) 734-8367.

SUPPLEMENTARY INFORMATION:

Background

In an interim rule effective July 11, 2001, and published in the Federal Register on July 17, 2001 (66 FR 37114-37117, Docket No. 99-100-3), we amended the export certification regulations in 7 CFR part 353 regarding the certification of softwood (coniferous) packing materials used with goods exported from the United States to China. The interim rule allowed certification of packing materials that were heat treated in Canada if that treatment was certified by the Canadian Food Inspection Agency to meet requirements established by the Government of the People's Republic of China. These changes were necessary to facilitate the exportation of the large volume of U.S. goods shipped to China using Canadian-origin coniferous solid wood packing materials.

Comments on the interim rule were required to be received on or before September 17, 2001. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived the review process required by Executive Order 12866.

List of Subjects in 7 CFR Part 353

Exports, Plant diseases and pests, Reporting and recordkeeping requirements.

PART 353—EXPORT CERTIFICATION

Accordingly, we are adopting as a final rule, without change, the interim rule that amended 7 CFR part 353 and that was published at 66 FR 37114-37117 on July 17, 2001.

Authority: 7 U.S.C. 7711, 7712, 7718, 7751, and 7754; 21 U.S.C. 136 and 136a; 7 CFR 2.22, 2.80, and 371.3.

Done in Washington, DC, this 11th day of January, 2002.
W. Ron DeHaven,
Acting Administrator, Animal and Plant Health Inspection Service.

[FR Doc. 02-1240 Filed 1-16-02; 8:45 am]

BILLING CODE 3410-34-U